SECURITIES AND EXCHANGE COMMISSION

17 CFR Part 249

[Release No. 34-87005D; File No. S7-05-14]

RIN 3235-AL45

Recordkeeping and Reporting Requirements for Security-Based Swap Dealers, Major Security-Based Swap Participants, and Broker-Dealers; Correction

AGENCY: Securities and Exchange Commission.

ACTION: Correcting amendment.

SUMMARY: On September 19, 2019, the Securities and Exchange Commission (the “Commission”) adopted recordkeeping, reporting, and notification requirements applicable to security-based swap dealers and major security-based swap participants, securities count requirements applicable to certain security-based swap dealers, and additional recordkeeping requirements applicable to broker-dealers to account for their security-based swap and swap activities. Release 34-87005 (Sept. 19, 2019) was published in the Federal Register on Dec. 16, 2019. This document corrects technical inaccuracies in that release.

DATES: Effective February 11, 2022.

FOR FURTHER INFORMATION CONTACT: Valentina Minak Deng, Special Counsel, at (202) 551-5778; Division of Trading and Markets, Securities and Exchange Commission, 100 F Street NE, Washington, DC 20549-7010.

SUPPLEMENTARY INFORMATION: We are making technical corrections to Part II and Part IIC of Form X-17A-5 (referenced in 17 CFR 249.617). The release resulting in the technical inaccuracies was published in the Federal Register on December 16, 2019 at 84 FR 68550, and adopted by the Commission in Exchange Act Release No. 87005 on September 19, 2019.

List of Subjects in 17 CFR Part 249

Brokers, Recordkeeping and reporting requirements, Securities.

Accordingly, 17 CFR part 249 is corrected by making the following amendments:

PART 249—FORMS, SECURITIES EXCHANGE ACT OF 1934

1. The authority citation for part 249 continues to read, in part, as follows:

Authority: 15 U.S.C. 78a et seq. and 7201 et seq.; 12 U.S.C. 5461 et seq.; 18 U.S.C. 1350; Sec. 953(b), Pub. L. 111-203, 124 Stat. 1904; Sec. 102(a)(3), Pub. L. 112-106, 126 Stat. 309 (2012); Sec. 107, Pub. L. 112-106, 126 Stat. 313 (2012), and Sec. 72001, Pub. L. 114-94, 129 Stat. 1312 (2015), unless otherwise noted.

* * * * *

Section 249.617 is also issued under Pub. L. 111-203, 939, 939A, 124. Stat. 1376 (2010) (15 U.S.C. 78c, 15 U.S.C. 78o-7 note).

* * * * *

2. Amend Part II of Form X-17A-5 (referenced in § 249.617 of this chapter) by:

BILLING CODE 8011-01-P

Note: The text of Part II of Form X-17A-5 does not and this amendment will not appear in the Code of Federal Regulations.

3. Amend Part IIC of Form X-17A-5 (referenced in § 249.617 of this chapter) by:

Note: The text of Part IIC of Form X-17A-5 does not and this amendment will not appear in the Code of Federal Regulations.

Dated: February 2, 2022.
J. Matthew DeLesDernier,
Assistant Secretary.

[FR Doc. 2022-02552 Filed 2-10-22; 8:45 am]

BILLING CODE 8011-01-C